DEPARTMENT OF HEALTH AND HUMAN SERVICES

Administration on Aging

[Program Announcement No. AoA-01-05]

Fiscal Year 2001 Program Announcement; Availability of Funds and Notice Regarding Applications

AGENCY: Administration on Aging, HHS.

ACTION: Request for applications for National Legal Assistance and Elder Rights Projects to provide state and area agencies on aging and/or their legal assistance providers with one or more of the following services: (1) Case consultations; (2) training; (3) provision of substantive legal advice and assistance; and (4) assistance in the design, implementation, and administration of legal assistance delivery and elder rights advocacy systems.

SUMMARY: The Administration on Aging announces that under this program announcement it will hold a competition for grant awards for three (3) to five (5) projects. The federal share of project costs is expected to range from $150,000 to $250,000 per year for a project period of three years. The purpose of these projects is to enhance the leadership capacity of state and area agencies on aging to support elder rights activities and to improve the quality and accessibility of the legal assistance provided to older people.

The deadline date for the submission of applications is July 9, 2001. Public and/or nonprofit agencies, organizations, or institutions are eligible to apply. To be considered for funding, however, applicants must be experienced in providing support and technical assistance on a nationwide basis to states, area agencies on aging, legal assistance providers, ombudsmen, elder abuse prevention programs, and other organizations interested in the legal rights of older individuals.

Application kits are available by writing to the U.S. Department of Health and Human Services, Administration on Aging, Office of State and Community Programs, 330 Independence Avenue, S.W., Room 4751, Washington, DC 20201, by calling 202/619-0067 or on the web at http://www.aoa.gov/t4/fy2001.

Dated: May 18, 2001.
Norman L. Thompson,
Acting Principal Deputy Assistant Secretary for Aging.

[FR Doc. 01-13010 Filed 5-22-01; 8:45 am]

BILLING CODE 4154-01-P